Title 3—

The President

Proclamation 7444 of May 25, 2001

Prayer for Peace, Memorial Day, 2001

By the President of the United States of America

A Proclamation

“Humility must always be the portion of any man who receives acclaim earned in the blood of his followers and the sacrifices of his friends.” These words, spoken by General Dwight D. Eisenhower following Germany's surrender in 1945, paid tribute to his fallen comrades as he humbly acknowledged that their ultimate sacrifice gave occasion for recognition of his leadership.

Similarly, we stand as a Nation that is strong and deserving of praise. Yet we are humbled, because we remember that the wealth of this Nation's heritage, the strength of its ideals, and the extent of its freedom came with a tremendous price. These treasures were purchased with the lives of American service men and women, a cost borne prominently by several generations. We are humbled because so many bright futures, hopes, and dreams were sacrificed for the abundance of opportunities we now freely pursue.

Through the course of our Nation's history, more than 41 million Americans have served the cause of freedom and more than a million have died in its name. On this noble American holiday, we solemnly pause to remember the men and women who gave their lives in service to our Nation. We honor those generations and individuals who fought for liberty and in defiance of tyranny that this unique experiment in self-government might long endure.

At a bridge at Concord, in the muddy trenches of Europe, the rugged mountains of Korea, the dense forests of Asia, or across the burning sands of the Persian Gulf, America's heroes have advanced democracy around the globe and defended the liberties we hold dear. We are particularly mindful of our fallen patriots as we mark the 60th anniversary of the bombing of Pearl Harbor and the 10th anniversary of Operation Desert Storm.

We honor the final sacrifice of our service men and women by dedicating our own lives to peace and the defense of freedom. For these ideals they fought, and for these ideals we continue to strive. May we stand with diligence and with humility on the broad shoulders of those whose brave deeds and sacrifice we memorialize today. Let all of us commit this day, whether in public ceremony or in quiet reflection over a single grave, to remember them in fitting tribute.

In respect for their devotion to America, the Congress by a joint resolution approved on May 11, 1950 (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby designate Memorial Day, May 28, 2001, as a day of prayer for permanent peace, and I designate the hour beginning in each locality at 11:00 a.m. of that day as a time to unite in prayer. I also ask all Americans to observe the National Moment of Remembrance beginning at 3:00 p.m. local time on Memorial Day. I urge the press, radio, television, and all other media to participate in these observances.

I also request the Governors of the United States and the Commonwealth of Puerto Rico, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-fifth day of May, in the year of our Lord two thousand one, and of the Independence of the United States of America the two hundred and twenty-fifth.

B

[FR Doc. 01-13788

Filed 5-30-01; 8:45 am]

Billing code 3195-01-P